DEPARTMENT OF COMMERCE

International Trade Administration

[A-122-047]

Elemental Sulphur From Canada: Final Results of Antidumping Duty Administrative Review

AGENCY: Import Administration, International Trade Administration, Department of Commerce.

ACTION: Notice of final results of antidumping duty administrative review of elemental sulphur from Canada.

SUMMARY: On September 8, 2000, the Department of Commerce (the Department) published the preliminary results of its administrative review on the antidumping duty order on elemental sulphur from Canada. This review covers imports of subject merchandise from Husky Oil Limited (“Husky”), a producer, and Petrosul International (“Petrosul”), a reseller. The period of review (“POR”) for Husky and Petrosul is from December 1, 1998 through December 31, 1999. The POR for all other entries is December 1, 1998 through November 30, 1999. We gave interested parties an opportunity to comment on our preliminary results. No interested parties have filed case briefs or rebuttal briefs on the preliminary results and no request for a hearing has been received by the Department. Therefore, we have not changed the results from those presented in the preliminary results of review and we will instruct the U.S. Customs Service to assess antidumping duties on suspended entries for Petrosul and Husky.

EFFECTIVE DATE: December 12, 2000.

FOR FURTHER INFORMATION CONTACT: Brandon Farlander or Rick Johnson, Import Administration, International Trade Administration, U.S. Department of Commerce, 14th and Constitution Avenue, NW., Washington, DC 20230; telephone: (202) 482-0182 or (202) 482-3818, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR Part 351 (April 1, 1999).

Background

The antidumping dumping duty order for elemental sulphur from Canada was revoked, pursuant to the sunset procedures established by statute, effective January 1, 2000. See Revocation of Antidumping Finding: Elemental Sulphur From Canada, 64 FR 40553 (July 27, 1999). However, we are conducting this review to cover sales of the subject merchandise made in the United States by Husky and Petrosul during the 13-month period from December 1, 1998, until the effective date of the revocation.

On September 8, 2000, the Department published in the Federal Register its preliminary results of the antidumping duty order on elemental sulphur from Canada (65 FR 54488) (“Preliminary Results”). As noted above, the Department did not receive comments from interested parties.

The Department is conducting this administrative review in accordance with section 751 of the Act.

Scope of the Review

Imports covered by this review are shipments of elemental sulphur from Canada. This merchandise is classifiable under Harmonized Tariff Schedule (“HTS”) subheadings 2503.10.00, 2503.90.00, and 2802.00.00. Although the HTS subheadings are provided for convenience and for U.S. Customs purposes, the Department's written description of the scope of this order remains dispositive.

Period of Review

The POR for Husky and Petrosul is from December 1, 1998 through December 31, 1999. See April 11, 2000 letters to Husky and Petrosul, in which the Department extended the POR to include December 1999. The POR for all other entries is December 1, 1998 through November 30, 1999.

Adverse Facts Available

As discussed in the Preliminary Results, we preliminarily determined that the application of total adverse facts available with respect to Petrosul was appropriate. No parties have commented on this determination, and no new facts have been submitted which would cause the Department to revisit this decision. Therefore, for the reasons set out in the Preliminary Results, 65 FR 54489-90, we have continued to apply total adverse facts available to Petrosul for the purposes of this final results notice.

Final Results of Review

As a result of our review, we determine that the following weighted-average dumping margins exist for the period December 1, 1998 through December 31, 1999:

Manufacturer/exporter/reseller | Margin (percent)
Husky Oil Limited | 0.55
Petrosul International, Ltd | 40.38

Assessment

The Department will assess antidumping duties on all Petrosul entries at the same rate as the dumping margin (i.e., 40.38 percent) since the margin is not a current calculated rate for the respondent, but a rate based upon total adverse facts available pursuant to section 776(b) of the Act. We will assess importer-specific antidumping duties on all appropriate Husky entries. Also, the Department will issue appraisement instructions directly to the Customs Service.

Cash Deposit

Because the antidumping duty order on elemental sulphur from Canada has been revoked, effective January 1, 2000, no cash deposits are required for entries of elemental sulphur from Canada for entries on or after January 1, 2000. See Revocation of Antidumping Finding: Elemental Sulphur From Canada, 64 FR 40553 (July 27, 1999).

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This determination is issued and published in accordance with sections 751(a)(1) and 777(i)(1) of the Act.

Dated: December 6, 2000.
Troy H. Cribb,
Assistant Secretary for Import Administration.

[FR Doc. 00-31632 Filed 12-11-00; 8:45 am]

BILLING CODE 3510-DS-P